NATIONAL SCIENCE FOUNDATION

Notice of Permit Modification Received Under the Antarctic Conservation Act of 1978

AGENCY: National Science Foundation.

ACTION: Notice of permit modification request received and permit issued under the Antarctic Conservation Act of 1978, P.L. 95-541.

SUMMARY: The National Science Foundation (NSF) is required to publish a notice of requests to modify permits issued to conduct activities regulated and permits issued under the Antarctic Conservation Act of 1978. NSF has published regulations under the Antarctic Conservation Act at Title 45 Part 671 of the Code of Federal Regulations. This is the required notice of a requested permit modification and permit issued.

FOR FURTHER INFORMATION CONTACT: Nature McGinn, ACA Permit Officer, Division of Polar Programs, Rm. 755, National Science Foundation, 4201 Wilson Boulevard, Arlington, VA 22230. Or by email: ACApermits@nsf.gov.

SUPPLEMENTARY INFORMATION: The Foundation issued a permit (ACA 2016-020) to Laura K.O. Smith, Owner & Operator of Quixote Expeditions, LLC (Quixote), on December 23, 2015. The issued permit allows the applicant to operate the “Ocean Tramp,” a reinforced ketch rigged sailing yacht in the Antarctic Peninsula region. Activities to be conducted by Quixote include: Passenger landings, hiking, photography, wildlife viewing, and possible station visits.

Now the applicant proposes a permit modification to continue permitted activities, including minimization, mitigation, and monitoring of waste, for the 2016-2017 Antarctic season. The Environmental Officer has reviewed the modification request and has determined that the amendment is not a material change to the permit, and it will have a less than a minor or transitory impact.

December 23, 2015 to February 6, 2021

The permit modification was issued on November 9, 2016.

Nadene G. Kennedy,
Polar Coordination Specialist, Division of Polar Programs.

[FR Doc. 2016-27788 Filed 11-17-16; 8:45 am]

BILLING CODE 7555-01-P